FEDERAL HOUSING FINANCE AGENCY

12 CFR Part 1238

RIN 2590-AA47

Stress Testing of Regulated Entities

AGENCY: Federal Housing Finance Agency.

ACTION: Notice of proposed rulemaking; extension of comment period.

SUMMARY: On October 5, 2012, the Federal Housing Finance Agency (FHFA) published in the Federal Register a notice of proposed rulemaking for public comment concerning stress testing of the Federal National Mortgage Association (Fannie Mae), the Federal Home Loan Mortgage Corporation (Freddie Mac), and the twelve Federal Home Loan Banks (Banks) as required by section 165(i)(2) of the Dodd-Frank Wall Street Reform and Consumer Protection Act (Dodd-Frank Act). The comment period was to end on November 4, 2012 (the 30th day after publication of the proposal in the Federal Register). This document extends the comment period by an additional 30 days, through and including December 4, 2012, to allow the public additional time to comment on the proposed rule.

DATES: Written comments must be received on or before December 4, 2012. For additional information, see the SUPPLEMENTARY INFORMATION section.

ADDRESSES: You may submit your comments, identified by regulatory information number (RIN) 2590-AA47, by any of the following methods:

• Federal eRulemaking Portal: http://www.regulations.gov: Follow the instructions for submitting comments. If you submit your comment to the Federal eRulemaking Portal, please also send it by email to FHFA at RegComments@fhfa.gov to ensure timely receipt by FHFA. Please include “RIN 2590-AA47” in the subject line of the message.

• Email: Comments to Alfred M. Pollard, General Counsel may be sent by email to RegComments@fhfa.gov. Please include “RIN 2590-AA47” in the subject line of the message.

• U.S. Mail, United Parcel Service, Federal Express, or Other Mail Service: The mailing address for comments is: Alfred M. Pollard, General Counsel, Attention: Comments/RIN 2590-AA47, Federal Housing Finance Agency, Eighth Floor, 400 Seventh Street SW., Washington, DC 20024.

• Hand Delivered/Courier: The hand delivery address is: Alfred M. Pollard, General Counsel, Attention: Comments/RIN 2590-AA47, Federal Housing Finance Agency, Eighth Floor, 400 Seventh Street SW., Washington, DC 20024. The package should be logged at the Guard Desk, First Floor, on business days between 9 a.m. and 5 p.m.

FOR FURTHER INFORMATION CONTACT: Naa Awaa Tagoe, Senior Associate Director, Office of Financial Analysis, Modeling and Simulations, (202) 649-3140, naaawaa.tagoe@fhfa.gov; Fred Graham, Associate Director, Risk Modeling and Market Analysis, (202) 649-3500, fred.graham@fhfa.gov; or Mark D. Laponsky, Deputy General Counsel, Office of General Counsel, (202) 649-3054 (these are not toll-free numbers), mark.laponsky@fhfa.gov. The telephone number for the Telecommunications Device for the Hearing Impaired is (800) 877-8339.

SUPPLEMENTARY INFORMATION: On October 5, 2012, FHFA published for comment in the Federal Register a proposed rule, and invited comments. See 77 FR 60948. The comment period for the proposed rule was originally scheduled to close on November 4, 2012 (the 30th day after the date of publication); but, FHFA determined to extend the comment period an additional 30 days, changing the deadline for submitting comments on the proposed rule from November 4, 2012 to December 4, 2012.

Dated: October 31, 2012.
Edward J. DeMarco,
Acting Director, Federal Housing Finance Agency.

[FR Doc. 2012-27024 Filed 11-5-12; 8:45 am]

BILLING CODE 8070-01-P